DEPARTMENT OF ENERGY

Federal Energy Regulatory Commission

Combined Notice of Filings #1

Take notice that the Commission received the following exempt wholesale generator filings:

Docket Numbers: EG18-133-000.

Applicants: Fox Creek Farm Solar, LLC.

Description: Notice of Self-Certification of Exempt Wholesale Generator Status of Fox Creek Farm Solar, LLC.

Filed Date: 9/28/18.

Accession Number: 20180928-5248.

Comments Due: 5 p.m. ET 10/19/18.

Take notice that the Commission received the following electric rate filings:

Docket Numbers: ER13-764-017; ER14-1927-005; ER12-2498-017; ER12-2499-017; ER12-1566-011; ER11-3987-012; ER17-382-002; ER17-383-002; ER17-384-002; ER12-199-014; ER18-855-001; ER18-1416-001.

Applicants: CED White River Solar, LLC, CED White River Solar 2, LLC, Alpaugh 50, LLC, Alpaugh North, LLC, Copper Mountain Solar 2, LLC, Mesquite Solar 1, LLC, CED Ducor Solar 1, LLC, CED Ducor Solar 2, LLC, CED Ducor Solar 3, LLC, Coram California Development, L.P., Panoche Valley Solar, LLC, CED Wistaria Solar, LLC.

Description: Notice of Non-Material Change in Status of the Consolidated Edison, Inc. subsidiaries.

Filed Date: 9/28/18.

Accession Number: 20180928-5265.

Comments Due: 5 p.m. ET 10/19/18.

Docket Numbers: ER16-454-001; ER13-1422-007; ER18-2325-000.

Applicants: Sunbury Generation LP, Seward Generation, LLC, Ebensburg Power Company.

Description: Supplement to August 28, 2018 Market-Based Rate Notice of Change in Status of Sunbury Generation LP, et al.

Filed Date: 9/28/18.

Accession Number: 20180928-5263.

Comments Due: 5 p.m. ET 10/19/18.

Docket Numbers: ER18-2518-000.

Applicants: Black Hills Electric Generation, LLC.

Description: Baseline eTariff Filing: Market-Based Rate Tariff to be effective 11/28/2018.

Filed Date: 9/28/18.

Accession Number: 20180928-5250.

Comments Due: 5 p.m. ET 10/19/18.

Docket Numbers: ER18-2519-000.

Applicants: NorthWestern Corporation.

Description: Baseline eTariff Filing: New Baseline—Reserve Energy Service to be effective 10/1/2018.

Filed Date: 9/28/18.

Accession Number: 20180928-5252.

Comments Due: 5 p.m. ET 10/19/18.

Docket Numbers: ER18-2520-000.

Applicants: California Independent System Operator Corporation.

Description: § 205(d) Rate Filing: 2018-09-28 Aliso Canyon Gas-Electric Coordination Phase 4 Amendment to be effective 11/30/2018.

Filed Date: 9/28/18.

Accession Number: 20180928-5261.

Comments Due: 5 p.m. ET 10/19/18.

Docket Numbers: ER19-1-000.

Applicants: NorthWestern Corporation.

Description: Tariff Cancellation: Cancellation of Reserve Energy Service under Tariff ID 28 to be effective 10/1/2018.

Filed Date: 10/1/18.

Accession Number: 20181001-5001.

Comments Due: 5 p.m. ET 10/22/18.

Docket Numbers: ER19-2-000.

Applicants: New England Power Pool Participants Committee.

Description: § 205(d) Rate Filing: October 2018 Membership Filing to be effective 9/1/2018.

Filed Date: 10/1/18.

Accession Number: 20181001-5003.

Comments Due: 5 p.m. ET 10/22/18.

Docket Numbers: ER19-3-000.

Applicants: NorthWestern Corporation.

Description: Tariff Cancellation: Cancellation of Inactive Tariff Records under Tariff ID 28 to be effective 10/2/2018.

Filed Date: 10/1/18.

Accession Number: 20181001-5105.

Comments Due: 5 p.m. ET 10/22/18.

Docket Numbers: ER19-4-000.

Applicants: Southwest Power Pool, Inc.

Description: § 205(d) Rate Filing: 3095R1 Missouri River Energy Services NITSA and NOA to be effective 9/1/2018.

Filed Date: 10/1/18.

Accession Number: 20181001-5106.

Comments Due: 5 p.m. ET 10/22/18.

Docket Numbers: ER19-5-000.

Applicants: Commonwealth Edison Company, PJM Interconnection, L.L.C.

Description: § 205(d) Rate Filing: ComEd submits revisions to OATT, Att. H-13A re: FAS 109 Recovery to be effective 10/1/2018.

Filed Date: 10/1/18.

Accession Number: 20181001-5115.

Comments Due: 5 p.m. ET 10/22/18.

Docket Numbers: ER19-6-000.

Applicants: Delmarva Power & Light Company, PJM Interconnection, L.L.C.

Description: § 205(d) Rate Filing: Delmarva submits revisions OATT, Att. H-3D re: FAS 109 Recovery to be effective 10/1/2018.

Filed Date: 10/1/18.

Accession Number: 20181001-5156.

Comments Due: 5 p.m. ET 10/22/18.

Docket Numbers: ER19-7-000.

Applicants: PacifiCorp.

Description: Tariff Cancellation: Termination of Obsidian Renewables E&P Agmt to be effective 12/16/2018.

Filed Date: 10/1/18.

Accession Number: 20181001-5159.

Comments Due: 5 p.m. ET 10/22/18.

Docket Numbers: ER19-8-000.

Applicants: Sweetwater Solar, LLC.

Description: Baseline eTariff Filing: Application for MBR, Waivers, Blanket Authority, Confidential & Expedited Action to be effective 12/31/9998.

Filed Date: 10/1/18.

Accession Number: 20181001-5201.

Comments Due: 5 p.m. ET 10/22/18.

Docket Numbers: ER19-9-000.

Applicants: Mankato Energy Center II, LLC.

Description: Baseline eTariff Filing: Application for MBR Authority and Initial Baseline Tariff Filing to be effective 12/1/2018.

Filed Date: 10/1/18.

Accession Number: 20181001-5203.

Comments Due: 5 p.m. ET 10/22/18.

Docket Numbers: ER19-10-000.

Applicants: Potomac Electric Power Company, PJM Interconnection, L.L.C.

Description: § 205(d) Rate Filing: Potomac Electric submits revisions to OATT, Att. H-9A re: FAS 109 Recovery to be effective 10/1/2018.

Filed Date: 10/1/18.

Accession Number: 20181001-5209.

Comments Due: 5 p.m. ET 10/22/18.

Docket Numbers: ER19-11-000.

Applicants: Peetz Logan Interconnect, LLC.

Description: Baseline eTariff Filing: Peetz Logan Interconnect, LLC Application for MBR Authority to be effective 11/30/2018.

Filed Date: 10/1/18.

Accession Number: 20181001-5232.

Comments Due: 5 p.m. ET 10/22/18.

Docket Numbers: ER19-12-000.

Applicants: NorthWestern Corporation.

Description: Baseline eTariff Filing: New Baseline—South Dakota OATT to be effective 10/2/2018.

Filed Date: 10/1/18.

Accession Number: 20181001-5237.

Comments Due: 5 p.m. ET 10/22/18.

Docket Numbers: ER19-13-000.

Applicants: Pacific Gas and Electric Company.

Description: § 205(d) Rate Filing: Transmission Owner Rate Case TO20 Formula to be effective 12/1/2018.

Filed Date: 10/1/18.

Accession Number: 20181001-5238.

Comments Due: 5 p.m. ET 10/22/18.

Docket Numbers: ER19-14-000.

Applicants: Baltimore Gas and Electric Company, PJM Interconnection, L.L.C.

Description: § 205(d) Rate Filing: BGE submits revisions to OATT, Att. H-2A re: FAS 109 Recovery to be effective 10/1/2018.

Filed Date: 10/1/18.

Accession Number: 20181001-5259.

Comments Due: 5 p.m. ET 10/22/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 1, 2018.
Nathaniel J. Davis, Sr.,
Deputy Secretary.

[FR Doc. 2018-21742 Filed 10-4-18; 8:45 am]

BILLING CODE 6717-01-P